DEPARTMENT OF HEALTH AND HUMAN SERVICES

Office of the Secretary

Notice of Meeting: Secretary's Advisory Committee on Genetics, Health, and Society

Pursuant to Public Law 92-463, notice is hereby given of the fifth meeting of the Secretary's Advisory Committee on Genetics, Health, and Society (SACGHS), U.S. Public Health Service. The meeting will be held from 8:30 a.m. to 5 p.m. on October 18, 2004 and 8:30 a.m. to 3 p.m. October 19, 2004 at the Marriott Hotel Bethesda at 5151 Pooks Hill Road, Bethesda, Maryland. The meeting will be open to the publc with attendance limited to space available. The meeting will be webcast.

The first half of the first day will be devoted to a session to receive testimony from individuals who have been affected by genetic discrimination in health insurance and employment. The second half of the first day will include presentations related to and discussion of a revised draft report on coverage and reimbursement for genetic technologies and services and the development of recommendations on the issues identified in the report. Discussion of the draft coverage and reimbursement report will continue throughout the first half of the second day. The second day will end with a status report on the National Academy of Sciences' study of genomics and patents and discussions of future plans for Committee action on the issues of pharmacogenomics and large population studies. Time will be provided each day for public comments.

Under authority of 42 U.S.C. 217a, Section 222 of the Public Health Service Act, as amended, the Department of Health and Human Services established SACGHS to serve as a public forum for deliberations on the broad range of human health and societal issues raised by the development and use of genetic technologies and, as warranted, to provide advice on these issues. The draft meeting agenda and other information about SACGHS, including information about access to the webcast, will be available at the following Web site: http://www4.od.nih.gov/oba/sacghs.htm.

The Committee would welcome hearing from anyone wishing to provide public comment on any issue related to genetics, health and society. In addition, the Committee is specifically seeking written public comment from individuals who have experienced genetic discrimination in health insurance or in employment, who fear genetic discrimination, or who have paid out of pocket for services to keep genetic information out of medical records. Individuals who would like to provide public comment or who plan to attend the meeting and need special assistance, such as sign language interpretation or other reasonable accommodations, should notify the SACGHS Executive Secretary, Ms. Sarah Carr, by telephone at 301-496-9838 or E-mail at sc112c@nih.gov. The SACGHS office is located at 6705 Rockledge Drive, Suite 750, Bethesda, MD 20892.

Dated: August 19, 2004.
LaVerne Stringfield,
Director, Office of Federal Advisory Committee Policy.

[FR Doc. 04-19850 Filed 8-30-04; 8:45 am]

BILLING CODE 4140-01-M